DEPARTMENT OF TRANSPORTATION

Surface Transportation Board

[Docket No. FD 35802]

Northwest Tennessee Regional Port Authority—Construction and Operation Exemption—in Lake County, TN

AGENCY: Surface Transportation Board.

ACTION: Issuance of Draft Environmental Assessment; Request for Comments.

SUMMARY: The Surface Transportation Board's (Board) Office of Environmental Analysis (OEA) has prepared an Environmental Assessment (EA) in response to a petition for exemption filed on June 27, 2014 by the Northwest Tennessee Regional Port Authority (NWTRPA) to construct and operate an approximately 5.5 mile line of railroad in Lake County, Tennessee. The proposed rail line would connect the Port of Cates Landing, a river port located on the Mississippi River, with an existing line of railroad operated by the Tennken Railroad at a connection near Tiptonville, Tennessee. The proposed rail line would provide rail service to customers at the Port of Cates Landing and at the Lake County Industrial Park, a proposed industrial park located adjacent to the Port of Cates Landing.

The EA evaluates the potential environmental impacts of three alternative rail alignments, as well as the No Action Alternative and preliminarily concludes that construction of the proposed rail line connection would have no significant environmental impacts if the Board imposes and NWTRPA implements the recommended mitigation measures set forth in the EA. The entire EA is available on the Board's Web site (www.stb.dot.gov) by clicking on the ”Decisions & Notices” button that appears in the drop down menu for “ELIBRARY,” and searching by Service Date (December 28, 2015) or Docket Number (FD 35802).

DATES: The EA is available for public review and comment. Comments must be postmarked by January 27, 2016. OEA will consider and respond to comments received on the Draft EA in the Final EA. The Board will issue a final decision on the proposed transaction after issuance of the Final EA.

Filing Environmental Comments: Comments submitted by mail should be addressed to: Josh Wayland, Surface Transportation Board, 395 E Street SW., Washington, DC 20423. Comments on the Draft EA may also be filed electronically on the Board's Web site, www.stb.dot.gov, by clicking on the “E FILING” link. Please refer Docket No. FD 35802 in all comments, including electronic filings.

FOR FURTHER INFORMATION CONTACT: Josh Wayland by mail at the address above, by telephone at 202-245-0330, or by email at waylandj@stb.dot.gov.

By the Board, Victoria Rutson, Director, Office of Environmental Analysis.
Tia Delano,
Clearance Clerk.

[FR Doc. 2015-32566 Filed 12-24-15; 8:45 am]

BILLING CODE 4915-01-P